POSTAL SERVICE

39 CFR Part 20

Removal of International Money Transfer Service—Outbound and International Money Transfer Service—Inbound

AGENCY: Postal Service™.

ACTION: Final rule.

SUMMARY: On July 12, 2024, the Postal Service™ published notice of international product changes concerning the requests by the Postal Service for classification changes filed at the Postal Regulatory Commission (PRC) about International Money Transfer Service—Outbound and International Money Transfer Service—Inbound. On August 9, 2024, the PRC favorably reviewed the classification changes, which have an effective date of October 1, 2024, for International Money Transfer Service—Outbound, and an effective date of October 1, 2025, for International Money Transfer Service—Inbound. Therefore, the Postal Service is revising Mailing Standards of the United States Postal Service, International Mail Manual (IMM®), to reflect the discontinuation of International Money Transfer Service—Outbound, effective October 1, 2024, and the discontinuation of International Money Transfer Service—Inbound, effective October 1, 2025. Notice 123, Price List, will be updated accordingly.

DATES: Applicable dates: October 1, 2024, and October 1, 2025.

FOR FURTHER INFORMATION CONTACT: Dale Kennedy at 202-268-6592 or Kathy Frigo at 202-268-4178.

SUPPLEMENTARY INFORMATION: On July 5, 2024, in PRC Docket No. MC2024-413, the Postal Service filed a request to remove International Money Transfer Service—Outbound, effective October 1, 2024, and International Money Transfer Service—Inbound, effective October 1, 2025, from the Competitive Product List in the Mail Classification Schedule. On July 12, 2024 (89 FR 57174), the Postal Service published notice of the filing in PRC Docket No. MC2024-413 in the Federal Register notice entitled “International Product Change—Removal of International Money Transfer Service—Outbound and International Money Transfer Service—Inbound”.

As stated in the PRC's Order No. 7352 issued in Docket No. MC2024-413 on August 9, 2024, the PRC favorably reviewed the request to remove International Money Transfer Service—Outbound, which has an effective date of October 1, 2024, and the request to remove International Money Transfer Service—Inbound, which has an effective date of October 1, 2025. The order is available on the PRC's website at http://www.prc.gov.

The Postal Service is eliminating the competitive international extra service for International Money Transfer Service known as International Postal Money Orders. This elimination will occur in two phases as follows:

• Effective October 1, 2024, the foreign posts for the following countries will stop selling international postal money orders destined for the United States:

○ Belize.

○ Peru.

Likewise, effective October 1, 2024, the Postal Service will stop selling international postal money orders destined to the countries listed below:

○ Albania.

○ Belize.

○ Bolivia.

○ Cape Verde.

○ Dominican Republic.

○ Ecuador.

○ El Salvador.

○ Guinea.

○ Guyana.

○ Honduras.

○ Mali.

○ Peru.

○ Sierra Leone.

• Effective October 1, 2025, the foreign posts for the following countries will stop cashing international postal money orders issued by the Postal Service:

○ Albania.

○ Belize.

○ Bolivia.

○ Cape Verde.

○ Dominican Republic.

○ Ecuador.

○ El Salvador.

○ Guinea.

○ Guyana.

○ Honduras.

○ Mali.

○ Peru.

○ Sierra Leone.

Likewise, effective October 1, 2025, the Postal Service will stop cashing international postal money orders issued by the countries listed below:

○ Belize.

○ Peru.

A customer who is in possession of an international postal money order issued by the U.S. Postal Service® may redeem it at a U.S. Post Office™ facility at face value until September 30, 2025. A customer who is in possession of an international postal money order issued by the U.S. Postal Service who does not redeem it at a U.S. Post Office facility by September 30, 2025, may file a PS Form 6401 pursuant to IMM 371.421. Inquiries concerning an international postal money order issued by another country should be directed to the postal operator of the issuing country.

The Postal Service hereby adopts the following changes to Mailing Standards of the United States Postal Service, International Mail Manual (IMM), which is incorporated by reference in the Code of Federal Regulations.

We will publish an appropriate amendment to 39 CFR part 20 to reflect these changes.

List of Subjects in 39 CFR Part 20

Foreign relations, International postal services.

Accordingly, the Postal Service amends Mailing Standards of the United States Postal Service, International Mail Manual (IMM), incorporated by reference in the Code of Federal Regulations, as follows (see 39 CFR 20.1):

PART 20—INTERNATIONAL POSTAL SERVICE

1. The authority citation for part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Effective October 1, 2024, revise the following sections of the IMM as follows:

Mailing Standards of the United States Postal Service, International Mail Manual (IMM)

* * * * *

3 Extra Services

* * * * *

370 International Money Transfer Services

371 International Money Orders

[Revise 371 in its entirety to read as follows:]

371.1 Description

International postal money order service is a service used to transfer funds to individuals or firms in countries that have entered into agreements with the United States Postal Service for the exchange of international postal money orders.

371.2 Availability

Effective October 1, 2024, the United States Postal Service no longer offers customers the ability to purchase international postal money orders. Exhibit 371.2 lists the countries that accept international postal money orders purchased before October 1, 2024, from the U.S. Postal Service using the International Postal Money Order (Form MP1). International postal money orders purchased before October 1, 2024, may be sent by Priority Mail Express International service, Priority Mail International service, First-Class Mail International service, or First-Class Package International Service.

Effective October 1, 2025, the postal operators of the countries listed in Exhibit 371.2 will stop cashing international postal money orders issued by the U.S. Postal Service that are destined for those countries. Likewise, effective October 1, 2025, the Postal Service will stop cashing international postal money orders issued by the postal operators of the two countries marked with asterisks in Exhibit 371.2 (Belize and Peru) that are destined for the United States.

Exhibit 371.2

Countries Accepting the International Postal Money Order Form (MP1) Purchased Before October 1, 2024, That Will Stop Cashing MP1 Effective October 1, 2025

[Revise the exhibit to read as follows:]

Albania | Ecuador | Mali
Belize * | El Salvador | Peru *
Bolivia | Guinea | Sierra Leone
Cape Verde | Guyana
Dominican Republic | Honduras
* Effective October 1, 2025, the Postal Service will stop cashing international postal money orders issued by the postal operators of Belize and Peru. (See 371.3.)

371.3 Procedures for Cashing Valid International Postal Money Orders Issued by Foreign Countries

Valid international postal money orders issued by the postal operators of the two countries marked with asterisks in Exhibit 371.2 (Belize and Peru) will be paid in accordance with the procedures for cashing domestic money orders (see DMM 509.3). However, no international postal money order will be paid after the expiration of the validity date on the international money order or after September 30, 2025, whichever comes first.

371.4 Inquiries Regarding Payment of International Postal Money Orders (Form MP1)

Use PS Form 6401, Money Order Inquiry, in accordance with DMM 509.3 when filing inquiries concerning an International Postal Money Order (Form MP1). Only the purchaser may file and receive payment. Payments are issued 10 days after PS Form 6401 is processed by Accounting Services.

* * * * *

Individual Country Listings

* * * * *

Extra Services

* * * * *

International Postal Money Order (371)

[For the following countries—Albania, Belize, Bolivia, Cape Verde, Dominican Republic, Ecuador, El Salvador, Guinea, Guyana, Honduras, Mali, Peru, and Sierra Leone—revise the text to read as follows:]

NOT Available

* * * * *

Sarah Sullivan,
Attorney, Ethics and Legal Compliance.

[FR Doc. 2024-18848 Filed 8-22-24; 8:45 am]

BILLING CODE P